DEPARTMENT OF COMMERCE

Census Bureau

National Survey of Volunteering and Giving Among Youths and Adults

ACTION: Proposed collection; comment request.

SUMMARY: The Department of Commerce, as part of its continuing effort to reduce paperwork and respondent burden, invites the general public and other Federal agencies to take this opportunity to comment on proposed or continuing information collections, as required by the Paperwork Reduction Act of 1995, Public Law 104-13 (44 U.S.C. 3506(c)(2)(A)).

DATES: Written comments must be submitted on or before March 31, 2003.

ADDRESSES: Direct all written comments to Diana Hynek, Departmental Paperwork Clearance Officer, Department of Commerce, Room 6625, 14th and Constitution Avenue, NW., Washington, DC 20230.

FOR FURTHER INFORMATION CONTACT: Requests for additional information or copies of the information collection instrument(s) and instructions should be directed to Ken Kaplan or Sue Montfort, U.S. Census Bureau, FOB 3, Room 3351, Washington, DC 20233-8400 at (301) 763-3836.

SUPPLEMENTARY INFORMATION:

I. Abstract

The purpose of this voluntary survey is to provide trend data on the volunteering and giving behavior of youths and adults; to chart the impact of major institutions, such as schools and religious institutions on encouraging such behavior; to highlight people's attitudes on a variety of issues relating to their volunteering behavior; and to explore behavioral and motivational factors that influence volunteering and giving.

Independent Sector, a nonprofit, nonpartisan coalition of more than 700 national organizations, foundations, and corporate philanthropy programs, began to study volunteerism in the United States in the early 1990s. Original survey content was developed by a national advisory group of scholars and practitioners and addressed the following issues:

• Who volunteers? Who gives? To whom? How much?

• What are determinants of giving and volunteering behavior?

• What is the motivation for giving and volunteering to various types of charitable causes?

• When do youths begin to volunteer and give?

• What skills have young people learned from their community service?

• To what degree do schools encourage volunteering? Do they offer courses requiring community service or require community service for graduation?

• What level of confidence do young people have in the institutions of our society?

This survey is unique because it contains information about both adults and youths who give or volunteer and those that do neither. The findings have been of interest to policymakers, the media, researchers, and school principals and teachers, as well as leaders of voluntary organizations.

As part of the emerging literature on “social capital,” or social attachments, one important correlation of interest is that of religious practice and volunteering. This survey seeks to confirm and understand better that correlation by asking questions such as attendance at religious services and whether a volunteer organization is religiously-affiliated. The Census Bureau considers the religiously-oriented questions appropriate in the context of the survey's objective. We will not ask respondents to identify any particular religion.

For the national sample, we will select a sample of households from expired Current Population Survey rotations. We will obtain parental consent prior to interviewing the youths.

II. Method of Collection

The information will be collected by telephone-only interviews in one of the Census Bureau's telephone centers. The data methodology will utilize computer-assisted telephone interviewing (CATI).

III. Data

Office of Management and Budget (OMB) Number: Not available.

Form Number: There will be no form number because it will be conducted by CATI.

Type of Review: New collection.

Affected Public: Individuals or households.

Estimated Number of Respondents: 5,000 respondents.

Estimated Time Per Response: 30 minutes per response.

Estimated Total Annual Burden Hours: 2,500 hours.

Estimated Total Annual Cost: There is no cost to respondents other than their time.

Respondent's Obligation: Voluntary.

Legal Authority: Title 13, United States Code, section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; (d) ways to minimize the burden of the collection of information on respondents, including through the use of automated collection techniques or other forms of information technology and; (e) whether questions about religion, when contextually relevant and in a voluntary survey, are an appropriate area of inquiry to the Census Bureau.

Comments submitted in response to this notice will be summarized or included in the request for OMB approval of this information collection; they also will become a matter of public record.

Dated: January 24, 2003.
Madeleine Clayton,
Management Analyst, Office of the Chief Information Officer.

[FR Doc. 03-2090 Filed 1-29-03; 8:45 am]

BILLING CODE 3510-07-P